DEPARTMENT OF HOMELAND SECURITY

Transportation Security Administration

Highway Watch Program: Application Notice Describing the Program and Establishing the Closing Date for Receipt of Applications Under the Highway Watch Program

AGENCY: Transportation Security Administration, Department Homeland Security.

ACTION: Notice inviting applications of the Highway Watch Program.

SUMMARY: The existing Highway Watch Program will be expanded to include passenger carriers and first responders and to create a larger call center capable of communicating with program participants to link transportation-based Information Sharing and Analysis Centers.

DATES: The program announcement and application forms for the Highway Program are expected to be available on or about August 5, 2003. Application must be received: Transportation Security Administration, TSA Headquarters—West Building, 9th Floor, TSA-8, 601 South 12th Street, Arlington, Virginia 22202-4220; on or before 4 p.m. EST, September 8, 2003.

ADDRESSES: Program Announcement #03MLPA0001 for the Highway Watch Program will be available through the TSA Internet at http://www.tsa.dot.gov under Industry Partners.

FOR FURTHER INFORMATION CONTACT: Mr. Ronald Ouellet, Transportation Security Administration, Office of Maritime and Land Security, 701 12th Street, Arlington, VA 22201, (571) 227-2167, E-mail: Ronald.Ouellet@dhs.gov.

SUPPLEMENTARY INFORMATION: The purpose of the Highway Watch Program is to promote security awareness among all segments of the commercial motor carriers and transportation community. The Highway Watch Program plans to train the Nation's commercial drivers to observe and report any suspicious activities or items that may threaten the critical elements of the Nation's highway transportation system.

The Transportation Security Administration seeks a provider(s) capable of achieving one or more of the following program priorities: (1) Participants identification and recruitment; (2) training; (3) communications; and (4) information analysis and distribution. In addition to these four priorities, the provider(s) must develop and implement a data system for tracking and reporting project requirements.

Authority for this program is contained in the fiscal year 2003 Appropriations Act under Pub.L. 108-7. Total anticipated funding for Highway Watch Program is $19,700,000. Awards under this program are subject to availability of funds.

Issued in Arlington, VA.
Mark Johnson,
Deputy Assistant Administrator, Maritime and Land Security.

[FR Doc. 03-20274 Filed 8-7-03; 8:45 am]

BILLING CODE 4910-62-P